DEPARTMENT OF HOMELAND SECURITY

[Docket No. CISA-2023-0012]

Notice of President's National Infrastructure Advisory Council Meeting

AGENCY: Cybersecurity and Infrastructure Security Agency (CISA), Department of Homeland Security (DHS).

ACTION: Notice of Federal Advisory Committee Act (FACA) meeting; request for comments.

SUMMARY: CISA is publishing this notice to announce the following President's National Infrastructure Advisory Council (NIAC) meeting.

DATES:

Meeting Registration: Registration is required to attend the meeting and must be received no later than 5:00 p.m. Eastern Time (ET) on June 15, 2023. For more information on how to participate, please contact NIAC@cisa.dhs.gov.

Speaker Registration: Registration to speak during the meeting's public comment period must be received no later than 5:00 p.m. ET on June 15, 2023.

Written Comments: Written comments must be received no later than 5:00 p.m. ET on June 15, 2023.

Meeting Date: The NIAC will meet on June 21, 2023, from 1:00 p.m. to 4:00 p.m. ET. The meeting may close early if the council has completed its business.

ADDRESSES: The meeting will be held virtually and will be open to the public, per 41 CFR 102-3.150(a)(4). Requests to participate will be accepted and processed in the order in which they are received. For access to the meeting, information on services for individuals with disabilities, or to request special assistance, please email NIAC@cisa.dhs.gov by 5:00 p.m. ET on June 15, 2023. The NIAC is committed to ensuring all participants have equal access regardless of disability status. If you require a reasonable accommodation due to a disability to fully participate, please contact Erin McJeon at NIAC@cisa.dhs.gov as soon as possible.

Comments: The council will consider public comments on issues as listed in the SUPPLEMENTARY INFORMATION section below. Associated materials for potential discussions during the meeting will be available for review at https://www.cisa.gov/niac by June 14, 2023. Comments should be submitted by 5:00 p.m. ET on June 15, 2023 and must be identified by Docket Number CISA-2023-0012. Comments may be submitted by one of the following methods:

• Federal eRulemaking Portal: www.regulations.gov. Please follow the instructions for submitting written comments.

• Email: NIAC@cisa.dhs.gov. Include the Docket Number CISA-2023-0012 in the subject line of the email.

Instructions: All submissions received must include the words “Department of Homeland Security” and the Docket Number for this action. Comments received will be posted without alteration to www.regulations.gov, including any personal information provided. You may wish to read the Privacy & Security Notice which is available via a link on the homepage of www.regulations.gov.

Docket: For access to the docket and comments received by the National Infrastructure Advisory Council, please go to www.regulations.gov and enter docket number CISA-2023-0012.

A public comment period will take place from 2:30 p.m. to 2:40 p.m. Speakers who wish to participate in the public comment period must email NIAC@cisa.dhs.gov to register. Speakers should limit their comments to 3 minutes and will speak in order of registration. Please note that the public comment period may end before the time indicated, depending on the number of speakers who register to participate.

FOR FURTHER INFORMATION CONTACT: Erin McJeon, 202-819-6196, NIAC@cisa.dhs.gov.

SUPPLEMENTARY INFORMATION: The NIAC is established under section 10 of E.O. 13231 issued on October 16, 2001, continued and amended under the authority of E.O. 14048, dated September 30, 2021. Notice of this meeting is given under the Federal Advisory Committee Act (FACA), 5 U.S.C. ch. 10 (Pub. L. 117-286). The NIAC provides the President, through the Secretary of Homeland Security, advice on the security and resilience of the Nation's critical infrastructure sectors.

Agenda: The National Infrastructure Advisory Council will meet virtually in an open session on Wednesday, June 21, 2023, from 1:00 p.m. to 4:00 p.m. ET to discuss NIAC activities. The meeting will include (1) a period for public comment; (2) a keynote address on critical infrastructure security and resilience; (3) a report to the Council from the Water Security Subcommittee; (4) deliberation and vote on Water Security Study recommendations; and (5) an update on the Electrification Study.

Dated: May 18, 2023.
Erin McJeon,
Designated Federal Officer, National Infrastructure Advisory Council, Cybersecurity and Infrastructure Security Agency, Department of Homeland Security.

[FR Doc. 2023-11023 Filed 5-23-23; 8:45 am]

BILLING CODE 9110-9P-P